NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nature McGinn, ACA Permit Officer, Division of Polar Programs, Rm. 755, National Science Foundation, 4201 Wilson Boulevard, Arlington, VA 22230. Or by email: ACApermits@nsf.gov.

SUPPLEMENTARY INFORMATION: On September 9, 2016 the National Science Foundation published a notice in the Federal Register of permit applications received. The permits were issued on October 30, 2016 to: Jerry McDonald (Principal in Charge), Leidos Innovations Group, Antarctic Support Contract Permit Nos. 2017-014, 2017-015, 2017-016, 2017-017, 2017-018, 2017-019, 2017-020, 2017-021, 2017-022, 2017-023.

Nadene G. Kennedy,
Polar Coordination Specialist, Division of Polar Programs.

[FR Doc. 2016-26556 Filed 11-2-16; 8:45 am]

BILLING CODE 7555-01-P